DEPARTMENT OF ENERGY

Federal Energy Regulatory Commission

Combined Notice of Filings #1

Take notice that the Commission received the following exempt wholesale generator filings:

Docket Numbers: EG14-56-000.

Applicants: Pullman & Comley, LLC.

Description: Self-Certification of EG of GRE 314 East Lyme, LLC.

Filed Date: 5/19/14.

Accession Number: 20140519-5213.

Comments Due: 5 p.m. e.t. 6/9/14.

Take notice that the Commission received the following electric rate filings:

Docket Numbers: ER10-2614-005.

Applicants: ENMAX Energy Marketing, Inc.

Description: Enmax Energy Marketing, Inc. submits updated market power analysis.

Filed Date: 5/16/14.

Accession Number: 20140519-0001.

Comments Due: 5 p.m. e.t. 7/15/14.

Docket Numbers: ER10-2864-001; ER10-2863-001; ER10-2862-001; ER10-2867-001.

Applicants: Las Vegas Cogeneration LP, Las Vegas Cogeneration II, LLC, Valencia Power, LLC, Harbor Cogeneration Company, LLC.

Description: Second Supplement to June 28, 2013 Triennial Market Power Analysis of SGOC Southwest MBR Sellers for the Southwest Region.

Filed Date: 5/20/14.

Accession Number: 20140520-5061.

Comments Due: 5 p.m. e.t. 5/30/14.

Docket Numbers: ER10-2881-012; ER10-2882-012; ER10-2883-012; ER10-2884-012; ER10-2885-012; ER10-2641-012; ER10-2663-012; ER10-2886-012; ER13-1101-007; ER13-1541-006.

Applicants: Southern Company Services, Inc. (as Agent, Alabama Power Company, Georgia Power Company, Southern Power Company, Mississippi Power Company, Gulf Power Company, Oleander Power Project, L.P., Southern Company—Florida LLC, Southern Turner Cimarron I, LLC, Campo Verde Solar, LLC, Spectrum Nevada Solar, LLC.

Description: Notice of Non-Material of Change in Status of Alabama Power Company, et al.

Filed Date: 5/20/14.

Accession Number: 20140520-5105.

Comments Due: 5 p.m. e.t. 6/10/14.

Docket Numbers: ER14-1711-001.

Applicants: TC Ravenswood, LLC.

Description: Oil Burn Rate Schedule to be effective 5/19/2014.

Filed Date: 5/19/14.

Accession Number: 20140519-5234.

Comments Due: 5 p.m. e.t. 5/29/14.

Docket Numbers: ER14-1772-000.

Applicants: Oklahoma Cogeneration, LLC.

Description: Supplement to April 25, 2014 Oklahoma Cogeneration, LLC Notice of Succession and Tariff Revisions.

Filed Date: 5/19/14.

Accession Number: 20140519-5176.

Comments Due: 5 p.m. e.t. 6/9/14.

Docket Numbers: ER14-1988-000.

Applicants: PJM Interconnection, L.L.C.

Description: Queue Position X4-035; Original Service Agreement No. 3830 to be effective 4/18/2014.

Filed Date: 5/19/14.

Accession Number: 20140519-5229.

Comments Due: 5 p.m. e.t. 6/9/14.

Docket Numbers: ER14-1989-000.

Applicants: New Hampshire Transmission, LLC.

Description: Request for Limited Tariff Waiver and Motion for Expedited Consideration of New Hampshire Transmission, LLC.

Filed Date: 5/19/14.

Accession Number: 20140519-5250.

Comments Due: 5 p.m. e.t. 5/29/14.

Docket Numbers: ER14-1990-000.

Applicants: Southwest Power Pool, Inc.

Description: 2881 City of Chanute, KS NITSA NOA to be effective 5/1/2014.

Filed Date: 5/20/14.

Accession Number: 20140520-5069.

Comments Due: 5 p.m. e.t. 6/10/14.

Docket Numbers: ER14-1991-000.

Applicants: Midcontinent Independent System Operator, Inc.

Description: 2014-05-20_SA 2662 MidAm GIA (J274) to be effective 5/21/2014.

Filed Date: 5/20/14.

Accession Number: 20140520-5070.

Comments Due: 5 p.m. e.t. 6/10/14.

Docket Numbers: ER14-1992-000.

Applicants: Dynegy Danskammer, L.L.C.

Description: Notice of Cancellation to be effective 5/21/2014.

Filed Date: 5/20/14.

Accession Number: 20140520-5074.

Comments Due: 5 p.m. e.t. 6/10/14.

Docket Numbers: ER14-1993-000.

Applicants: Southwest Power Pool, Inc.

Description: Loss Compensation Clarification to be effective 7/19/2014.

Filed Date: 5/20/14.

Accession Number: 20140520-5130.

Comments Due: 5 p.m. e.t. 6/10/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 20, 2014.
Nathaniel J. Davis, Sr.,
Deputy Secretary.

[FR Doc. 2014-12322 Filed 5-27-14; 8:45 am]

BILLING CODE 6717-01-P